SECURITIES AND EXCHANGE COMMISSION

[SEC File No. 270-802, OMB Control No. 3235-0758]

Submission for OMB Review; Comment Request; Extension: Rule 30e-3

Upon Written Request, Copies Available From: Securities and Exchange Commission, Office of FOIA Services, 100 F Street NE, Washington, DC 20549-2736

Notice is hereby given that, under the Paperwork Reduction Act of 1995 (44 U.S.C. 3501 et seq.), (“Paperwork Reduction Act”) the Securities and Exchange Commission (the “Commission”) has submitted to the Office of Management and Budget (“OMB”) a request for extension of the previously approved collection of information discussed below.

Section 30(e) of the Investment Company Act of 1940 (15 U.S.C. 80a-1 et seq.) (“Investment Company Act”) requires a registered investment company (“fund”) to transmit to its shareholders, at least semi-annually, reports containing financial statements and other financial information as the Commission may prescribe by rules and regulations. Rules 30e-1 (17 CFR 270.30e-1) and 30e-2 (17 CFR 270.30e-2) under the Investment Company Act require most funds to send their shareholders annual and semiannual reports containing financial information on the fund.

Rule 30e-3 (17 CFR 270.30e-3) under the Investment Company Act (15 U.S.C. 80a-1 et seq.) provides certain funds and unit investment trusts with an optional method to satisfy shareholder report transmission requirements by making such reports and certain other materials publicly accessible on a website, as long as they satisfy certain other conditions of the rule regarding: (a) Availability of the report and other materials; (b) notice to investors of the website availability of the report; and (c) delivery of paper copies of materials upon request. Reliance on the rule is voluntary. Responses to the disclosure requirements are not kept confidential.

The Commission estimates that 13,079 funds could rely on rule 30e-3. Of these funds, we estimate that 90% (or 11,771 funds) are currently relying on rule 30e-3. With respect to these 11,771 funds, we estimate that 90% (or 10,594 funds) already post shareholder reports on their websites for other purposes. In total, rule 30e 3 will impose an average total annual hour burden of 24,719 hours on applicable funds. Based on the Commission's estimate of 24,719 hours and an estimated wage rate of about $362 per hour, the total annual cost to registrants of the hour burden for complying with rule 30-3 is about $8.9 million.

Estimates of average burden hours are made solely for the purposes of the Paperwork Reduction Act and are not derived from a comprehensive or even representative survey or study of the costs of Commission rules and forms. The collection of information under rule 30e-3 is mandatory. The information provided under rule 30e-3 will not be kept confidential. An agency may not conduct or sponsor, and a person is not required to respond to, a collection of information unless it displays a currently valid OMB control number.

The public may view the background documentation for this information collection at the following website, www.reginfo.gov. Comments should be directed to: (i) Desk Officer for the Securities and Exchange Commission, Office of Information and Regulatory Affairs, Office of Management and Budget, Room 10102, New Executive Office Building, Washington, DC 20503, or by sending an email to: Lindsay.M.Abate@omb.eop.gov; and (ii) David Bottom, Director/Chief Information Officer, Securities and Exchange Commission, c/o John R. Pezzullo, 100 F Street NE, Washington, DC 20549 or send an email to: PRA_Mailbox@sec.gov. Written comments and recommendations for the proposed information collection should be sent within 30 days May 13, 2022 of publication of this notice to www.reginfo.gov/public/do/PRAMain. Find this particular information collection by selecting “Currently under 30-day Review—Open for Public Comments” or by using the search function.

Dated: April 7, 2022.
J. Matthew DeLesDernier,
Assistant Secretary.

[FR Doc. 2022-07832 Filed 4-12-22; 8:45 am]

BILLING CODE 8011-01-P